INTERNATIONAL TRADE COMMISSION

Investigation No. 337-TA-1096]

Certain Microperforated Packaging Containing Fresh Produce; Notice of Correction Concerning Notice of Institution of Investigation

AGENCY: U.S. International Trade Commission.

ACTION: Correction of notice.

SUMMARY: Correction is made to notice 83 FR 3020, which was published on January 22, 2018, to clarify that the patent claims identified in paragraph 1 of the notice (claims 1-6, 11, and 13), refer to claims 1-6, 11, and 13 of U.S. Patent No. 7,083,837.

Issued: January 24, 2018.
Lisa R. Barton,
Secretary to the Commission.

[FR Doc. 2018-01684 Filed 1-29-18; 8:45 am]

BILLING CODE 7020-02-P